NATIONAL AERONAUTICS AND SPACE ADMINISTRATION

[Notice: (11-107)]

NASA Advisory Council; Science Committee; Astrophysics Subcommittee; Meeting.

AGENCY: National Aeronautics and Space Administration.

ACTION: Notice of meeting.

SUMMARY: In accordance with the Federal Advisory Committee Act, Public Law 92-463, as amended, the National Aeronautics and Space Administration (NASA) announces a meeting of the Astrophysics Subcommittee of the NASA Advisory Council (NAC). This subcommittee reports to the Science Committee of the NAC. The meeting will be held for the purpose of soliciting, from the scientific community and other persons, scientific and technical information relevant to program planning.

DATES: Monday, November 21, 2011, 3 p.m. to 4:30 p.m., Local Time.

ADDRESSES: This meeting will take place telephonically and by WebEx. Any interested person may call the USA toll free conference call number (800) 857-9696, pass code APS, to participate in this meeting by telephone. The WebEx link is https://nasa.webex.com, meeting number 999 042 608, and password APS@Nov212011.

SUPPLEMENTARY INFORMATION: The meeting will be open to the public. The agenda for the meeting includes the following topic:

—Astrophysics Division Update

—Results from Acting Astrophysics Division Director discussions with the European Space Agency on Euclid

It is imperative that the meeting be held on these dates to accommodate the scheduling priorities of the key participants.

Dated: October 25, 2011.
P. Diane Rausch,
Advisory Committee Management Officer, National Aeronautics and Space Administration.

[FR Doc. 2011-28009 Filed 10-27-11; 8:45 am]

BILLING CODE 7510-13-P